DEPARTMENT OF THE INTERIOR

Office of the Secretary

Privacy Act of 1974; Amendments to Existing Systems of Records

AGENCY: Office of the Secretary, Interior.

ACTION: Proposed amendment of existing Privacy Act systems of records.

SUMMARY: In accordance with the Privacy Act of 1974 (5 U.S.C. 552a), the Office of the Secretary of the Department of the Interior is issuing public notice of its intent to amend 35 existing Privacy Act system of records notices to add a new routine use to authorize the disclosure of records to individuals involved in responding to a breach of Federal data.

DATES: Comments must be received by March 24, 2008.

ADDRESSES: Any persons interested in commenting on these proposed amendments may do so by submitting comments in writing to the Office of the Secretary Privacy Act Officer, Sue Ellen Sloca, U.S. Department of the Interior, MS-116 SIB, 1951 Constitution Avenue NW., Washington, DC 20240, or by e-mail to Sue_Ellen_Sloca@nbc.gov.

FOR FURTHER INFORMATION CONTACT: Office of the Secretary Privacy Act Officer, Sue Ellen Sloca, U.S. Department of the Interior, MS-116 SIB, 1951 Constitution Avenue NW., Washington, DC 20240, or by e-mail to Sue_Ellen_Sloca@nbc.gov.

SUPPLEMENTARY INFORMATION: On May 22, 2007, in a memorandum for the heads of Executive Departments and Agencies entitled “Safeguarding Against and Responding to the Breach of Personally Identifiable Information,” the Office of Management and Budget directed agencies to develop and publish a routine use for disclosure of information in connection with response and remedial efforts in the event of a data breach. This routine use will serve to protect the interest of the individuals whose information is at issue by allowing agencies to take appropriate steps to facilitate a timely and effective response to the breach, thereby improving its ability to prevent, minimize or remedy any harm resulting from a compromise of data maintained in its systems of records. Accordingly, the Office of the Secretary of the Department of the Interior is proposing to add a new routine use to authorize disclosure to appropriate agencies, entities, and persons, of information maintained in the following systems in the event of a data breach. These amendments will be effective as proposed at the end of the comment period unless comments are received which would require a contrary determination. The Department will publish a revised notice if changes are made based upon a review of comments received.

Sue Ellen Sloca,
Office of the Secretary Privacy Act Officer.

SYSTEM NAMES:

Interior, OAS—01: “Official Pilot Folder.” (Published March 22, 1999, 64 FR 13809-13810)

Interior, OAS—02: “Aircraft Services Administrative and Fiscal Records.” (Published April 7, 1999, 64 FR 16990-16991)

Interior, DOI—01: “Interior Child Care Subsidy Program.” (Published February 14, 2001, 66 FR 10309-10311)

Interior, OS—02: “Individual Indian Money (IIM) Trust Funds.” (Published March 8, 2001, 66 FR 13945-13947)

Interior, OS—03: “The Box Index Search System.” (Published July 29, 2005, 70 FR 43899-43900)

Interior, DOI—04: “Employee Assistance Program Records.” (Published April 23, 1999, 64 FR 20011-20013)

Interior, DOI—07: “Federal and Non-Federal Aviation Personnel, Equipment, and Mishap Information System.” (Published April 7, 1999, 64 FR 16981-16983)

Interior, OS—09: “Hearings and Appeals Files.” (Published November 27, 2006, 71 FR 68633-68635)

Interior, OS—10: “Electronic Email Archive System (EEAS).” (Published January 28, 2003, 68 FR 4220-4221)

Interior, OS—14: “Take Pride in America System.” (Published July 3, 2003, 68 FR 39958-39959)

Interior, DOI—16: “DOI LEARN (Department-wide Learning Management System.” (Published October 5, 2005, 70 FR 58230-58232)

Interior, DOI—18: “Discrimination Complaints.” (Published April 14, 1999, 71 FR 18438-18440)

Interior, OS—20: “Secretarial Controlled Correspondence File.” (Published April 23, 1999, 64 FR 20013-20014)

Interior, OS—35: “Library Circulation Control System.” (Published April 7, 1999, 66 FR 16988-16989)

Interior, OS—36: “Telephone Call Detail Records.” (Published February 15, 1994, FR Doc 94-3498)

Interior, OS—46: “Secretarial Subject Files.” (Published April 7, 1999, 64 FR 16983-16984)

Interior, OS—47: “Parking Assignment Records.” (Published April 7, 1999, 64 FR 16984-16985)

Interior, OS—51: “Property Accountability and Control System.” (Published April 9, 1999, 64 FR 17404-17405)

Interior, OS—52: “Passport and Visa Records.” (Published April 7, 1999, 64 FR 16981)

Interior, DOI—57: “Privacy Act Files.” (Published March 24, 1999, 64 FR 14258-14259)

Interior, DOI—58: “Employee Administrative Records.” (Published April 20, 1999, 64 FR 19384-19386)

Interior, DOI—60: “Safety Management Information System.” (Published April 7, 1999, 64 FR 16991-16992)

Interior, DOI—71: “Electronic FOIA Tracking System and FOIA Case Files.” (Published September 18, 2002, 67 FR 58817-58819)

Interior, DOI—72: “FECA Chargeback Case Files.” (Published April 20, 1999, 64 FR 19380-19381)

Interior, DOI—74: “Grievance Records.” (Published April 20, 64 FR 19381-19383)

Interior, DOI—76: “Employee Training and Career Development Records.” (Published May 18, 1999, 64 FR 26999-27000)

Interior, DOI—77: “Unfair Labor Practice Charges/Complaints Files.” (Published April 14, 1999, 64 FR 18434-18436)

Interior, DOI—78: “Negotiated Grievance Files.” (Published April 20, 1999, 64 FR 19383-19384)

Interior, DOI—79: “Interior Personnel Records.” (Published April 23, 1999, 64 FR 20010-20011)

Interior, DOI—82: “Executive Development Program Files.” (Published April 23, 1999, 64 FR 20014-20015)

Interior, OS—84: “Delinquent Debtor Files.” (Published April 14, 1999, 64 FR 18436-18437)

Interior, DOI—85: “Payroll, Attendance, Retirement, and Leave Records.” (Published May 18, 1999, 64 FR 26997-26999)

Interior, OS—86: “Accounts Receivable.” (Published April 7, 1999, 64 FR 16985-16986)

Interior, OS—88: “Travel Management Records.” (Published April 9, 1999, 64 FR 17403-17404)

Interior, DOI—90: “Federal Financial System.” (Published August 27, 1999, 64 FR 46930-46932)

NEW ROUTINE USE:

Disclosures outside the Department of the Interior may be made:

To appropriate agencies, entities, and persons when:

(a) It is suspected or confirmed that the security or confidentiality of information in the system of records has been compromised; and

(b) The Department has determined that as a result of the suspected or confirmed compromise, there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

[FR Doc. E8-2584 Filed 2-12-08; 8:45 am]

BILLING CODE 4310-RK-P